FEDERAL ELECTION COMMISSION

Sunshine Act Meeting Notice

Date & Time: Thursday, November 9, 2006 at 10 a.m.

Place: 999 E Street, NW., Washington, DC (Ninth Floor).

Status: This meeting will be open to the public.

Items to Be Discussed: Correction and Approval of Minutes.

Advisory Opinion 2006-30: ActBlue, by Jonathan Zucker, Senior Strategist and Counsel.

Management and Administrative Matters.

Person to Contact for Information: Mr. Robert Biersack, Press Officer.

Mary W. Dove,
Secretary of the Commission.

[FR Doc. 06-9105 Filed 11-2-06; 2:29 pm]

BILLING CODE 6715-01-M